DEPARTMENT OF TRANSPORTATION

National Highway Traffic Safety Administration

[U.S. DOT Docket No. NHTSA-2010-0049]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before July 6, 2010.

ADDRESSES: Direct all written comments to U.S. Department of Transportation Dockets, 1200 New Jersey Avenue, SE., Washington, DC 20590. Docket No. NHTSA-2010-0049

FOR FURTHER INFORMATION CONTACT: Dr. Maria Vegega, Chief, Behavioral Research Division, Office of Behavioral Safety Research (NTI-131), National Highway Traffic Safety Administration, 1200 New Jersey Avenue, SE., W44-302, Washington, DC 20590. Dr. Vegega's phone number is 202-366-2668 and her e-mail address is Maria.Vegega@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Focus Group Review of Advanced Alcohol Detection Technology

Type of Request—New information collection requirement.

OMB Clearance Number—None.

Form Number—This collection of information uses no standard forms.

Requested Expiration Date of Approval—September 30, 2013.

Summary of the Collection of Information—NHTSA proposes to conduct a total of 24 focus groups in two stages. The first set of focus groups (12 focus groups) will obtain information on public perceptions and attitudes concerning in-vehicle alcohol detection technology designed to prevent alcohol-impaired driving. Information from this phase of the project will be used to provide greater clarity to the technology under investigation. Then, a second set of 12 focus groups will be conducted to gauge driver reaction to technology prototypes, obtain input on alternative prototype features, and obtain guidance on strategies for introduction. Participation in the focus groups will be voluntary. Participants will be asked about current and future in-vehicle safety technologies for detecting alcohol.

The focus groups will be audio taped using electronic equipment and augmented by handwritten notes taken during the discussions. No videotaping will occur. During the focus group discussion, participants will be identified solely by first name. Last names, telephone numbers, and any other personally identifiable information obtained during recruitment of the focus group participants will be separated from the collected information. Summarization and any reporting of the collected information will use generic categories rather than first names to further preserve anonymity of participants.

Description of the Need for the Information and Proposed Use of the Information—The National Highway Traffic Safety Administration's (NHTSA's) mission is to save lives, prevent injuries, and reduce healthcare and other economic costs associated with motor vehicle crashes. In 2008, almost 12,000 people died in vehicle crashes due to alcohol-impaired driving. In a continuing effort to reduce the adverse consequences of alcohol-impaired driving, NHTSA in conjunction with the Automotive Coalition for Traffic Safety is undertaking research and development to explore the feasibility of, and public policy challenges associated with, use of in-vehicle alcohol detection technology. The agency believes that use of vehicle-based, alcohol detection technologies could help to significantly reduce the number of alcohol-impaired driving crashes, deaths and injuries by preventing drivers from driving while impaired by alcohol.

As technology development progresses and decisions are being made about how to integrate such devices into the vehicle, NHTSA needs a better understanding of public preferences with respect to in-vehicle alcohol detection devices. Optimization of technology will depend on the extent to which public attitudes are taken into account during the development process. Thus NHTSA seeks input from drivers to:

• Gauge public perceptions of advanced in-vehicle alcohol detection technology;

• Guide the technology design; and

• Guide a strategy for introduction of this technology.

NHTSA believes that focus groups with licensed drivers are the appropriate method for obtaining information to address the above topics.

Description of the Likely Respondents (Including Estimated Number, and Proposed Frequency of Response to the Collection of Information)—Under this proposed effort, the Contractor will conduct a total of 24 focus groups in two stages. A set of three focus group meetings will be held in each of eight locations across the country; four sets of focus groups will occur in each phase of the research. NHTSA will select the locations to obtain responses in various regions of the country and to represent different State approaches to managing drunk driving. As indicated above, all participants will be licensed drivers. In each location, one focus group will be conducted with non-drinkers, one focus group will be conducted with social drinkers, and one focus group will be conducted with heavy episodic drinkers. The average number of participants will be eight per focus group, for a total of 192 focus group participants. Each participant will attend one focus group.

Estimate of the Total Annual Reporting and Record Keeping Burden Resulting from the Collection of Information—NHTSA estimates that the duration of each focus group will be one and one-half hours, or a total of 288 hours for the 192 focus group participants. The participants will not incur any reporting cost from the information collection. The participants also will not incur any record keeping burden or record keeping cost from the information collection. They will receive a small stipend under standard procedures for focus groups.

Authority: 44 U.S.C. Section 3506(c)(2)(A).

Jeff Michael,
Associate Administrator, Research and Program Development.

[FR Doc. 2010-10625 Filed 5-5-10; 8:45 am]

BILLING CODE 4910-59-P